DEPARTMENT OF COMMERCE

International Trade Administration

[A-570-831]

Fresh Garlic From the People's Republic of China: Extension of Time Limit for the Final Results of New Shipper Reviews

AGENCY: Import Administration, International Trade Administration, Department of Commerce

DATES: Effective Date: June 4, 2009.

FOR FURTHER INFORMATION CONTACT: Martha Douthit, AD/CVD Operations, Office 6, Import Administration, International Trade Administration, U.S. Department of Commerce, 14th Street and Constitution Avenue, NW., Washington, DC 20230; telephone: (202) 482-5050.

Background

On April 27, 2009, the Department of Commerce (the Department) issued the preliminary results of several new shipper reviews of fresh garlic from the People's Republic of China, covering the periods of review of November 1, 2007 through April 30, 2008 for three companies, and November 1, 2007 through June 9, 2008, for three companies. See Fresh Garlic from the People's Republic of China: Preliminary Results of New Shipper Reviews, 74 FR 20452 (May 4, 2009).

Statutory Time Limits

Section 751(a)(2)(B)(iv) of the Tariff Act of 1930, as amended (the Act), provides that the Department will issue the preliminary results of a new shipper review of an antidumping duty order within 180 days after the day on which the review was initiated, and final results of review within 90 days after the date on which the preliminary results were issued (19 CFR 351.214(i)(1)). However, if the Secretary concludes that a new shipper review is extraordinarily complicated, the Secretary may extend the 180-day period to 300 days, and may extend the 90-day period to 150 days. See 19 CFR 351.214(i)(2).

Extension of Time Limit for Final Results

The Department determines that these new shipper reviews involve extraordinarily complicated methodological issues, including the continued evaluation of the bona fideU nature of each company's sales. Therefore, in accordance with section 751(a)(2)(B)(iv) of the Act and 19 CFR 351.214(i)(2), the Department is extending the time limit for these final results which is 150 days from the date on which the preliminary results were issued, until September 24, 2009.

We are issuing and publishing this notice in accordance with sections 751(a)(2)(B)(iv) and 777(i) of the Act.

Dated: May 29, 2009.
John M. Andersen,
Acting Deputy Assistant Secretary for Antidumping and Countervailing Duty Operations.

[FR Doc. E9-13068 Filed 6-3-09; 8:45 am]

BILLING CODE 3510-DS-P